DEPARTMENT OF EDUCATION

The Federal Student Aid Programs Under Title IV of the Higher Education Act of 1965, as Amended

AGENCY: Department of Education.

ACTION: Notice inviting letters of application for participation in the Quality Assurance Program.

SUMMARY: The Secretary of Education invites institutions of higher education that may wish to participate in the Quality Assurance Program, under section 487A(a) of the Higher Education Act of 1965, as amended (HEA), to submit a letter of application to participate in the program.

DATES: Letters of application may be submitted any time after April 6, 2005.

ADDRESSES: Institutions wishing to apply to participate in the Quality Assurance Program may do so by mailing a letter of application to Barbara Mroz, Federal Student Aid, U.S. Department of Education, 830 First Street, NE., room 84F1, Washington, DC 20202-5232 or by submitting a letter of application electronically to Barbara Mroz at: Barbara.Mroz@ed.gov.

FOR FURTHER INFORMATION CONTACT: Sharyn Hutson, Federal Student Aid, U.S. Department of Education, 830 First Street, NE., room 83G3, Washington, DC 20202-5232. Telephone: (202) 377-4379, or via e-mail: Sharyn.Hutson@ed.gov.

If you use a telecommunications device for the deaf (TDD), you may call the Federal Information Relay Service (FIRS) at 1-888-877-8339.

Individuals with disabilities may obtain this document in an alternative format (e.g., Braille, large print, audio tape or computer diskette) on request by contacting the person listed under FOR FURTHER INFORMATION CONTACT.

SUPPLEMENTARY INFORMATION:

Background

Institutions of higher education are invited to join the Department in an effort to simplify regulations and administrative processes for the Federal Student Aid (FSA) Programs authorized by Title IV of the Higher Education Act of 1965, as amended (HEA). The vision of the Quality Assurance Program, with 145 institutions currently participating, is to provide tools that help all Title IV institutions promote better service to students, compliance, and continuous improvement in program delivery. The program encourages participating institutions to develop and implement their own comprehensive systems to verify student financial aid application data, and continually assess compliance to Federal requirements.

The Secretary is authorized to provide participating institutions with regulatory flexibility for the verification of student data, and to encourage alternative approaches that improve award accuracy.

The Secretary believes that the process of continuous improvement fostered by the institutions already participating in the Quality Assurance Program has enhanced not only the accuracy of student aid awards and payments, but also the management of student aid offices and the delivery of services to students.

Features of the Program

The mission of the Quality Assurance Program is to help schools attain, sustain, and advance exceptional student aid delivery and service excellence. For the past 19 years, the program has done that by providing participating institutions with the flexibility to design an institutional verification program that more directly focuses on their own population segments. It has also helped them target areas of administration that affect award accuracy or that may leave the institution vulnerable to potential liabilities.

The Quality Assurance Program has given institutions the tools and techniques to assess, measure, analyze, correct and prevent problems, and has provided them with data on which to base their decisions for solving problems and addressing verification issues.

The Secretary encourages institutions participating in the Quality Assurance Program to evaluate their student aid or verification policies and procedures and adopt improvements in those procedures. Institutions measure performance and test the effectiveness of their verification program by using the Department's ISIR Analysis Tool. The ISIR Analysis Tool is a web-based software product that provides Financial Aid Administrators with an in-depth analysis of their applicant population. It allows them to see not only which FAFSA elements changed when verified, but also what impact these changes have upon the Expected Family Contribution (EFC) and aid eligibility. This analysis helps Financial Aid Administrators develop a targeted institutional verification program, which ultimately makes the financial aid process easier for students, while ensuring accountability and integrity.

The Quality Assurance Program also helps institutions make improvements beyond verification and basic compliance. By using the FSA Assessments, schools can set goals for continuous improvement in all areas of financial aid delivery. One key benefit of the program is the partnership between the Department and the participating institutions.

Both parties become engaged in promoting continuous improvement in the administration and delivery of the student financial assistance programs, thereby enhancing service to students.

Invitation for Applications

The Secretary invites institutions of higher education that administer one or more Title IV programs to submit a letter of application to participate in the Quality Assurance Program. Institutions that currently participate in the program may continue to do so without submitting a new letter of application. The Secretary will review the letter of application, which should reflect the institution's commitment to the goals of the Quality Assurance Program, as determined by the Secretary. The letter of application should address the following goals in detail:

• Attain and sustain compliance and continuous improvement in program delivery, and better service to students;

• Improve the accuracy of institutional verification programs;

• Increase institutional flexibility in managing student aid funds, while maintaining accountability for the proper use of those funds; and

• Encourage the development of innovative management approaches that advance quality.

Review Process

The Department will screen prospective participants to determine if the institution meets general Title IV eligibility requirements and has a demonstrated record of program compliance. The Secretary may also consider the institution's performance with regard to financial responsibility, administrative capability, program review findings, audit findings, etc. as outlined in the regulations and in the Federal Student Aid Handbook.

Electronic Access to This Document

You may view this document, as well as all other documents of this Department published in the Federal Register, in text or Adobe Portable Document Format (PDF) on the Internet at the following site: http://www.ed.gov/news/fedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: March 31, 2005.
Theresa S. Shaw,
Chief Operating Officer Federal Student Aid.

[FR Doc. 05-6745 Filed 4-5-05; 8:45 am]

BILLING CODE 4000-01-P